CONSUMER PRODUCT SAFETY COMMISSION

16 CFR Parts 1109 and 1500

[Docket No. CPSC-2011-0081]

Amendment To Clarify When Component Part Testing Can Be Used and Which Textile Products Have Been Determined Not To Exceed the Allowable Lead Content Limits; Delay of Effective Date and Reopening of Comment Period

AGENCY: U.S. Consumer Product Safety Commission.

ACTION: Direct final rule; delay of effective date and reopening of comment period.

SUMMARY: The Consumer Product Safety Commission (“Commission” or “CPSC”) published a direct final rule (“DFR”) and notice of proposed rulemaking (“NPR”) in the same issue of the Federal Register on October 14, 2015, clarifying when component part testing can be used and clarifying which textile products have been determined not to exceed the allowable lead content limits. Because the comment period deadline for the DFR was stated incorrectly on regulations.gov, the Commission is reopening the comment period to accept comments submitted by January 13, 2016, and is delaying the effective date of the DFR to February 12, 2016.

DATES: The effective date of the direct final rule published on October 14, 2015, at 80 FR 61729, which was delayed from December 14, 2015, until January 13, 2016 by a document published on November 19, 2015 at 80 FR 72342, November 19, 2015, is further delayed from January 13, 2016, until February 12, 2016. The rule will be effective unless we receive a significant adverse comment. If we receive a significant adverse comment, we will publish notification in the Federal Register withdrawing this direct final rule before its effective date. The comment date is extended to January 13, 2016.

ADDRESSES: You may submit comments, identified by Docket No. CPSC-2011-0081, by any of the following methods:

Electronic Submissions

Submit electronic comments in the following way:

Federal eRulemaking Portal: http://www.regulations.gov. Follow the instructions for submitting comments. The Commission does not accept comments submitted by electronic mail (email), except through: http://www.regulations.gov. The Commission encourages you to submit electronic comments by using the Federal eRulemaking Portal, as described above.

Written Submissions

Submit written submissions in the following way:

Mail/Hand delivery/Courier, preferably in five copies, to: Office of the Secretary, Consumer Product Safety Commission, Room 820, 4330 East-West Highway, Bethesda, MD 20814; telephone (301) 504-7923.

Instructions: All submissions received must include the agency name and docket number for this notice. All comments received may be posted without change, including any personal identifiers, contact information, or other personal information provided, to: http://www.regulations.gov. Do not submit confidential business information, trade secret information, or other sensitive or protected information electronically. Such information should be submitted in writing.

Docket: For access to the docket to read background documents or comments received, go to: http://www.regulations.gov and insert the Docket No. CPSC-2011-0081 into the “Search” box and follow the prompts.

FOR FURTHER INFORMATION CONTACT: Kristina Hatlelid, Ph.D., M.P.H., Directorate for Health Sciences, U.S. Consumer Product Safety Commission, 5 Research Place, Rockville, MD 20850; (301) 987-2558; email; khatlelid@cpsc.gov.

SUPPLEMENTARY INFORMATION: On October 14, 2015, the Commission published a DFR and an NPR in the Federal Register, clarifying when component part testing can be used and clarifying which textile products have been determined not to exceed the allowable lead content limits. (DFR, 80 FR 61729 and NPR, 80 FR 61773). In response to a request for additional time to comment, the Commission published a document extending the comment period until December 14, 2015, and providing that unless the Commission receives a significant adverse comment by December 14, 2015, the rule would become effective on January 13, 2016. 80 FR 72342. The comment period for the DFR was stated incorrectly on regulations.gov as January 13, 2016. Therefore, the Commission is publishing this document to reopen the comment period to allow for submission of comments until January 13, 2016, and delaying the effective date, accordingly, to February 12, 2016.

Dated: December 29, 2015.
Todd A. Stevenson,
Secretary, Consumer Product Safety Commission.

[FR Doc. 2015-33068 Filed 12-31-15; 8:45 am]

BILLING CODE 6355-01-P